DEPARTMENT OF HEALTH AND HUMAN SERVICES

National Institutes of Health

Interagency Coordinating Committee on the Validation of Alternative Methods Communities of Practice Webinar on Use of Animal-Free Affinity Reagents; Notice of Public Webinar; Registration Information

AGENCY: National Institutes of Health, HHS.

ACTION: Notice.

SUMMARY: The Interagency Coordinating Committee on the Validation of Alternative Methods (ICCVAM) announces a public webinar “Use of Animal-free Affinity Reagents.” The webinar is organized on behalf of ICCVAM by the National Toxicology Program Interagency Center for the Evaluation of Alternative Toxicological Methods (NICEATM). Interested persons may participate via WebEx. Time will be allotted for questions from the audience. Information about the webinar and registration are available at https://ntp.niehs.nih.gov/go/commprac-2020.

DATES:

Webinar: January 21, 2020, 11:00 a.m. to approximately 12:30 p.m. EST.

Registration for Webinar: December 9, 2019, until 12:30 p.m. EST January 21, 2020.

Registration to view the webinar is required.

ADDRESSES: Webinar web page https://ntp.niehs.nih.gov/go/commprac-2020.

FOR FURTHER INFORMATION CONTACT: Dr. Warren Casey, Director, NICEATM, Division of NTP, NIEHS, P.O. Box 12233, K2-17, Research Triangle Park, NC 27709. Phone: 984-287-3118, Email: warren.casey@nih.gov. Hand Deliver/Courier address: 530 Davis Drive, Room K2021, Morrisville, NC 27560.

SUPPLEMENTARY INFORMATION:

Background: ICCVAM promotes the development and validation of toxicity testing methods that protect human health and the environment while replacing, reducing, or refining animal use. ICCVAM also provides guidance to test method developers and facilitates collaborations that promote the development of new test methods. To address these goals, ICCVAM will hold a Communities of Practice webinar on “Use of Animal-free Affinity Reagents.”

Affinity reagents such as antibodies are used in a range of research, diagnostic, and regulatory applications. However, traditional methods for producing such reagents require immunization of laboratory animals. Therefore, even when applied to nonanimal test methods, their use is inconsistent with the spirit of replacing, reducing, or refining animal use. Use of animal-based affinity reagents also introduces variability into the methods that use them.

This webinar will present a review of the usefulness and limitations of nonanimal-derived affinity reagents and their potential to replace animal-derived reagents. The preliminary agenda and additional information about presentations will be posted at https://ntp.niehs.nih.gov/go/commprac-2020 as available.

Webinar and Registration: This webinar is open to the public with time scheduled for questions by participants following each presentation. Registration for the webinar is required and is open through 12:30 p.m. EST on January 21, 2020. Registration is available at https://ntp.niehs.nih.gov/go/commprac-2020. Interested individuals are encouraged to visit this web page to stay abreast of the most current webinar information. Registrants will receive instructions on how to access and participate in the webinar in the email confirming their registration.

Individuals with disabilities who need accommodation to participate in this event should contact Elizabeth Maull at phone: (984) 287-3157 or email: maull@niehs.nih.gov. TTY users should contact the Federal TTY Relay Service at (800) 877-8339. Requests should be made at least five business days in advance of the event.

Background Information on ICCVAM and NICEATM: ICCVAM is an interagency committee composed of representatives from 16 federal regulatory and research agencies that require, use, generate, or disseminate toxicological and safety testing information. ICCVAM conducts technical evaluations of new, revised, and alternative safety testing methods and integrated testing strategies with regulatory applicability and promotes the scientific validation and regulatory acceptance of testing methods that more accurately assess the safety and hazards of chemicals and products and replace, reduce, or refine (enhance animal well-being and lessen or avoid pain and distress) animal use.

The ICCVAM Authorization Act of 2000 (42 U.S.C. 285l-3) establishes ICCVAM as a permanent interagency committee of NIEHS and provides the authority for ICCVAM involvement in activities relevant to the development of alternative test methods. Additional information about ICCVAM can be found at https://ntp.niehs.nih.gov/go/iccvam.

NICEATM administers ICCVAM, provides scientific and operational support for ICCVAM-related activities, and conducts and publishes analyses and evaluations of data from new, revised, and alternative testing approaches. NICEATM and ICCVAM work collaboratively to evaluate new and improved testing approaches applicable to the needs of U.S. federal agencies. NICEATM and ICCVAM welcome the public nomination of new, revised, and alternative test methods and strategies for validation studies and technical evaluations. Additional information about NICEATM can be found at https://ntp.niehs.nih.gov/go/niceatm.

Dated: November 18, 2019.
Brian R. Berridge,
Associate Director, National Toxicology Program.

[FR Doc. 2019-25667 Filed 11-25-19; 8:45 am]

BILLING CODE 4140-01-P